DEPARTMENT OF LABOR

Employment and Training Administration

[TA-W-52,966]

Andrew Corporation, Dallas, TX; Notice of Termination of Investigation

Pursuant to section 221 of the Trade Act of 1974, as amended, an investigation was initiated on September 24, 2003, in response to a worker petition on behalf of workers at Andrew Corporation, Dallas, Texas.

The petitioners have requested that the petition be withdrawn. Therefore, this investigation has been terminated.

Signed at Washington, DC this 6th day of November, 2003.
Elliott S. Kushner,
Certifying Officer, Division of Trade Adjustment Assistance.

[FR Doc. 03-29380 Filed 11-24-03; 8:45 am]

BILLING CODE 4510-30-P